DEPARTMENT OF THE INTERIOR

National Park Service

Environmental Statements; Availability etc; Gettysburg National Military Park

AGENCY: National Park Service (NPS), Department of Interior (DOI).

ACTION: Notice of availability of an environmental assessment on the proposed demolition and removal of the National Tower at Gettysburg National Military Park, Gettysburg, PA.

SUMMARY: Pursuant to the Council on Environmental Quality regulations and National Park Service policy, the NPS announces the availability of a draft environmental assessment on the proposed demolition and removal of the National Tower at Gettysburg National Military Park, Gettysburg, PA. The purpose of this environmental assessment is to present the alternatives for removal of the tower and related impacts. Specific actions required for future site restoration are not described or analyzed within this document. The NPS is soliciting comments on this environmental assessment. NPS will consider these comments in making a decision pursuant to the National Environmental Policy Act (NEPA) and the National Historic Preservation Act of 1966 (NHPA).

DATES: The environmental assessment will remain available for public comment through May 31, 2000.

FOR FURTHER INFORMATION CONTACT: Katie Lawhon, (717) 334-1124 extension 452 or write to Superintendent, Gettysburg National Military Park, 97 Taneytown Road, Gettysburg, PA 17325.

SUPPLEMENTARY INFORMATION: On December 9, 1999, the Department of Justice filed a complaint in condemnation at the U.S. District Court in Harrisburg, Pennsylvania. This action was the first formal legal step in the federal government's acquisition of the privately owned 307-foot observation tower, the land upon which it sits and its appurtenant rights-of-way. The action to acquire the National Tower, which overlooks the Gettysburg Battlefield, implements the decision made by the National Park Service as part of its 1990 Boundary Study and its 1993 Land Protection Plan to add the site to the park, acquire the land and the tower, and remove the tower.

Removal of non-historic structures in order to restore natural conditions is listed by the NPS as a categorical exclusion under the National Park Service procedures for implementing the provisions of the National Environmental Policy Act (NEPA). However, in the interests of disclosing the limited impacts associated with the demolition of the non-historic tower structure, this environmental assessment ahs been prepared for public and agency review. Alternatives analyzed in the draft Environmental Assessment include Alternative 1, (the Proposal), Tower Removal and Alternative 2, No Action. Under Alternative 1, the tower structure and its surrounding buildings would be demolished and removed. Demolition itself could be accomplished through a variety of methods. One alternative method would be to dismantle the structure in a piece-by-piece method through use of cranes and other mechanical methods. Another demolition method would be to use an implosion method to reduce the tower and associated structures into on-site debris and then remove the debris. Under all methods, the resulting debris would be removed by truck to approved scrap yards/resale facilities and landfills. Under Alternative 2, No Action, the tower property would be acquired as stated in previous planning documents. The NPS would close the National Tower to public access and use, but the tower would not be removed. This alternative is presented for baseline purposes of comparison. All interested agencies, organizations, and individuals are urged to provide comments on the draft Environmental Assessment. All comments received by the closing date will be considered by NPS as it completes its NEPA and NHPA compliance.

Dated: April 28, 2000.
John A. Latschar,
Superintendent, Gettysburg National Military Park.

[FR Doc. 00-11202 Filed 5-4-00; 8:45 am]

BILLING CODE 4310-70-M